OFFICE OF PERSONNEL MANAGEMENT

Excepted Service

AGENCY: Office of Personnel Management (OPM).

ACTION: Notice.

SUMMARY: This notice identifies Schedule A, B, and C appointing authorities applicable to a single agency that were established or revoked from November 1, 2019 to November 30, 2019.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during November 2019.

Schedule B

No Schedule B Authorities to report during November 2019.

Schedule C

The following Schedule C appointing authorities were approved during November 2019.

Agency name | Organization name | Position title | Authorization No. | Effective date
DEPARTMENT OF AGRICULTURE | Risk Management Agency | Policy Advisor | DA200015 | 11/13/2019
| Office of Communications | Press Assistant | DA190211 | 11/19/2019
| Office of the Secretary | Legislative Correspondent | DA200017 | 11/13/2019
|  | Special Assistant and Advisor | DA200016 | 11/19/2019
| Office of the Under Secretary for Food Safety | Staff Assistant | DA200020 | 11/25/2019
DEPARTMENT OF COMMERCE | Minority Business Development Agency | Special Assistant | DC190153 | 11/04/2019
| Office of the Deputy Secretary | Special Advisor | DC190148 | 11/04/2019
| Office of the General Counsel | Senior Counsel Counsel | DC190152 DC200004 | 11/04/2019 11/22/2019
DEPARTMENT OF DEFENSE | Washington Headquarters Services | Defense Fellow Advance Officer | DD200023 DD200039 | 11/20/2019 11/26/2019
DEPARTMENT OF EDUCATION | Office of the General Counsel | Confidential Assistant Attorney Advisor | DB200004 DB200007 | 11/14/201911/19/2019
Office of Planning, Evaluation and Policy Development | Confidential Assistant | DB200013 |  | 11/26/2019
DEPARTMENT OF ENERGY | Office of the Assistant Secretary for Congressional and Intergovernmental Affairs | Director of Intergovernmental and External Affairs | DE200013 | 11/07/2019
| Office of Economic Impact and Diversity | Special Advisor Senior Advisor | DE200026 DE200027 | 11/20/2019 11/20/2019
| Office of Management | Deputy Director of Scheduling | DE200016 | 11/04/2019
|  | Deputy Director of Operations for Scheduling | DE200017 | 11/14/2019
|  | Advance Lead | DE200021 | 11/15/2019
| Office of the Secretary | Special Assistant | DE200015 | 11/05/2019
EXPORT-IMPORT BANK | Office of the Chief of Staff | Deputy Chief of Staff | EB200007 | 11/04/2019
FEDERAL HOUSING FINANCE AGENCY | Office of the Director | Assistant Chief of Staff | HA200001 | 11/05/2019
|  | Deputy Chief of Staff | HA200002 | 11/14/2019
DEPARTMENT OF HEALTH AND HUMAN SERVICES | Centers for Medicare and Medicaid Services | Senior Advisor | DH200003 | 11/07/2019
| Office of Global Affairs | Senior Advisor | DH200015 | 11/05/2019
|  | Special Representative for Global Women's Health | DH200004 | 11/07/2019
|  | Chief of Staff and Senior Advisor | DH200007 | 11/07/2019
| Office of the Assistant Secretary for Legislation | Director of Congressional Liaison | DH200018 | 11/13/2019
| Office of the Assistant Secretary for Public Affairs | Advisor—Strategic Communications Deputy Speechwriter | DH200010 DH200009 | 11/05/201911/06/2019
| Office of the Secretary | Deputy White House Liaison | DH200016 | 11/05/2019
DEPARTMENT OF HOMELAND SECURITY | Office of Partnership and Engagement | Partnership and Engagement Specialist | DM200036 | 11/26/2019
DEPARTMENT OF HOUSING AND URBAN DEVELOPMENT | Office of Policy Development and Research | Special Assistant | DU200015 | 11/22/2019
DEPARTMENT OF THE INTERIOR | Secretary's Immediate Office | Deputy Director, Office of Advance | DI200012 | 11/22/2019
DEPARTMENT OF JUSTICE | Office of Legal Policy | Senior Counsel | DJ200006 | 11/15/2019
| Office of Antitrust Division | Counsel | DJ190242 | 11/26/2019
DEPARTMENT OF LABOR | Office of Congressional and Intergovernmental Affairs | Regional Representative | DL200019 | 11/15/2019
|  | Senior Legislative Officer | DL200028 | 11/22/2019
| Office of Labor Management Standards | Policy Advisor | DL200022 | 11/19/2019
| Office of the Secretary | Speechwriter Deputy Director of Scheduling | DL200027 DL200029 | 11/13/2019 11/19/2019
OFFICE OF PERSONNEL MANAGEMENT | President's Commission on White House Fellowships | Deputy Director | PM200003 | 11/04/2019
| Office of the Director | Senior Advisor | PM200007 | 11/19/2019
SMALL BUSINESS ADMINISTRATION | Office of the Administrator | Director of Scheduling | SB200002 | 11/22/2019
DEPARTMENT OF STATE | Bureau of Western Hemisphere Affairs | Special Assistant | DS200015 | 11/12/2019
| Office of Global Women's Issues | Special Advisor | DS200008 | 11/14/2019
| Office of Policy Planning | Special Assistant | DS190126 | 11/22/2019
| Office of the Secretary | Staff Assistant Senior Advisor | DS200012 DS200016 | 11/13/2019 11/26/2019
DEPARTMENT OF TRANSPORTATION | Office of the Administrator | Director of Public Affairs | DT200023 | 11/04/2019
|  | Director of Governmental Affairs | DT200027 | 11/07/2019
| Office of the Assistant Secretary for Administration | Special Assistant | DT200029 | 11/12/2019
| Office of the Assistant Secretary for Governmental Affairs | Senior Governmental Affairs Officer Special Assistant | DT200018 DT200025 | 11/12/2019 11/13/2019
| Office of the Assistant Secretary for Transportation Policy | Special Assistant | DT200001 | 11/08/2019
|  | Senior Advisor for Public Outreach and Communications | DT200031 | 11/13/2019
| Office of the Deputy Secretary | Special Assistant Executive Assistant | DT200002 DT200026 | 11/14/2019 11/19/2019
| Office of Public Affairs | Press Secretary | DT200030 | 11/15/2019
| Office of the Secretary | Senior Assistant for Scheduling and Advance | DT200028 | 11/12/2019
DEPARTMENT OF THE TREASURY | Office of the Assistant Secretary (Economic Policy) | Special Advisor | DY200011 | 11/12/2019
| Secretary of the Treasury | Special Advisor | DY200012 | 11/12/2019
| Office of the Assistant Secretary (Public Affairs) | Director, Public Affairs (Terrorism and Financial Intelligence) | DY200014 | 11/20/2019
DEPARTMENT OF VETERANS AFFAIRS | Office of the Assistant Secretary for Congressional and Legislative Affairs | Special Assistant | DV200011 | 11/20/2019

The following Schedule C appointing authorities were revoked during November 2019.

Agency name | Organization name | Position title | Request No. | Date vacated
DEPARTMENT OF AGRICULTURE | Farm Service Agency | State Executive Director—South Dakota | DA180075 | 11/14/2019
|  | State Executive Director—Georgia | DA180031 | 11/15/2019
| Office of Communications | Press Assistant | DA190047 | 11/23/2019
| Office of the Secretary | Special Assistant and Advisor | DA190199 | 11/23/2019
| Office of the Under Secretary for Rural Development | Chief of Staff Policy Advisor | DA180100 DA180261 | 11/15/2019 11/15/2019
| Risk Management Agency | Policy Advisor | DA180198 | 11/23/2019
| Rural Business Service | Confidential Assistant | DA190171 | 11/18/2019
DEPARTMENT OF COMMERCE | Office of the Assistant Secretary Legislative and Intergovernmental Affairs | Associate Director for Legislative Affairs | DC180188 | 11/09/2019
| Minority Business Development Agency | Confidential Assistant | DC190003 | 11/09/2019
| Office of Public Affairs | Special Advisor for Communications | DC180169 | 11/08/2019
| Office of the Deputy Secretary | Senior Advisor Special Assistant | DC190015 DC190012 | 11/09/2019 11/23/2019
| Office of the General Counsel | Special Advisor to the General Counsel | DC190038 | 11/08/2019
OFFICE OF THE SECRETARY OF DEFENSE | Office of the Assistant Secretary of Defense (Manpower and Reserve Affairs) | Special Assistant to the Assistant Secretary of Defense for Manpower and Reserve Affairs | DD170215 | 11/23/2019
| Office of the Under Secretary of Defense (Acquisition, Technology, and Logistics) | Special Assistant to the Assistant Secretary of Defense (Acquisition and Sustainment) | DD190009 | 11/23/2019
| Office of the Deputy Under Secretary of Defense (Asian and Pacific Security Affairs) | Special Assistant to the Deputy Assistant Secretary of Defense (East Asia) | DD190003 | 11/30/2019
| Office of the Assistant Secretary of Defense (Asian and Pacific Security Affairs) | Special Assistant to the Deputy Assistant Secretary of Defense (East Asia) | DD190004 | 11/30/2019
DEPARTMENT OF EDUCATION | Office of Communications and Outreach | Confidential Assistant | DB190065 | 11/22/2019
| Office of Special Education and Rehabilitative Services | Confidential Assistant | DB190098 | 11/23/2019
DEPARTMENT OF ENERGY | Loan Programs Office | Senior Advisor | DE190145 | 11/01/2019
| Office of the Assistant Secretary for Congressional and Intergovernmental Affairs | Legislative Affairs Advisor | DE180147 | 11/09/2019
| Office of Management | Deputy Staff Secretary | DE190067 | 11/09/2019
| Office of Economic Impact and Diversity | Senior Advisor on Minority Business Special Assistant | DE180140 DE180151 | 11/23/2019 11/23/2019
DEPARTMENT OF HEALTH AND HUMAN SERVICES | Office of Administration for Children and Families | Advisor Director of Legislative Affairs | DH180134 DH190057 | 11/09/2019 11/29/2019
| Office for Civil Rights | Senior Advisor | DH170343 | 11/22/2019
| Office of Global Affairs | Advisor | DH180239 | 11/09/2019
|  | Chief of Staff | DH190044 | 11/09/2019
|  | Senior Advisor | DH190043 | 11/09/2019
| Office of the Assistant Secretary for Legislation | Advisor | DH190035 | 11/09/2019
| Office of the Assistant Secretary for Preparedness and Response | Senior Advisor | DH190054 | 11/22/2019
| Office of the Assistant Secretary for Public Affairs | Assistant Speechwriter Content Strategy and Marketing Associate | DH190050 DH190168 | 11/09/2019 11/22/2019
|  | Special Assistant | DH180250 | 11/30/2019
| Office of the Secretary | Special Advisor | DH190118 | 11/09/2019
DEPARTMENT OF HOUSING AND URBAN DEVELOPMENT | Office of the Deputy Secretary | Special Assistant | DU180091 | 11/08/2019
| Office of Policy Development and Research | Deputy Assistant Secretary for Policy Development | DU180089 | 11/16/2019
DEPARTMENT OF JUSTICE | Office of Civil Division | Senior Counsel | DJ190055 | 11/15/2019
DEPARTMENT OF LABOR | Office of Congressional and Intergovernmental Affairs | Chief of Staff | DL180014 | 11/23/2019
| Office of the Assistant Secretary for Policy | Counsel and Policy Advisor | DL190017 | 11/23/2019
| Office of the Secretary | Special Assistant | DL180079 | 11/23/2019
DEPARTMENT OF STATE | Bureau of Arms Control, Verification and Compliance | Senior Advisor | DS180060 | 11/23/2019
| Bureau of Counterterrorism | Special Assistant | DS180011 | 11/23/2019
| Bureau of Western Hemisphere Affairs | Special Assistant | DS170156 | 11/23/2019
| Office of Global Women's Issues | Special Assistant | DS180039 | 11/23/2019
| Office of Policy Planning | Writer—Editor (Speechwriter) | DS180072 | 11/09/2019
| Office of the Counselor | Senior Advisor | DS180063 | 11/09/2019
| Office of the Secretary | Writer-Editor (Chief Speechwriter) | DS180087 | 11/09/2019
|  | Staff Assistant | DS180086 | 11/23/2019
DEPARTMENT OF THE INTERIOR | Secretary's Immediate Office | Senior Advance Representative | DI180048 | 11/30/2019
DEPARTMENT OF TRANSPORTATION | Office of the Assistant Secretary for Research and Technology | Special Assistant for Research and Technology | DT190105 | 11/07/2019
| Office of Public Affairs | Digital Media Manager | DT190107 | 11/07/2019
| Chief Information Officer | Special Assistant | DT180037 | 11/30/2019
DEPARTMENT OF VETERANS AFFAIRS | Office of the Assistant Secretary for Congressional and Legislative Affairs | Special Assistant | DV170062 | 11/23/2019
| Office of Public Affairs | Press Secretary | DV190078 | 11/30/2019
ENVIRONMENTAL PROTECTION AGENCY | Office of the Associate Administrator for Congressional and Intergovernmental Relations | Special Assistant to the Associate Administrator for the Office of Congressional and Intergovernmental Relations | EP180067 | 11/09/2019
| Office of the Associate Administrator for Policy | Special Advisor for Policy and Economics | EP190051 | 11/09/2019
| Office of the Administrator | Advance Associate | EP190074 | 11/22/2019
GENERAL SERVICES ADMINISTRATION | Office of Strategic Communication | Speechwriter | GS190028 | 11/17/2019
OFFICE OF MANAGEMENT AND BUDGET | Office of the General Counsel | Deputy to the General Counsel for Oversight | BO190005 | 11/09/2019
OFFICE OF PERSONNEL MANAGEMENT | President's Commission on White House Fellowships | Deputy Director, President's Commission on White House Fellowships | PM190020 | 11/09/2019

Authority: 5 U.S.C. 3301 and 3302; E.O. 10577, 3 CFR, 1954-1958 Comp., p. 218.

Office of Personnel Management.
Alexys Stanley,
Regulatory Affairs Analyst.

[FR Doc. 2020-04272 Filed 3-2-20; 8:45 am]

BILLING CODE 6325-39-P